DEPARTMENT OF TRANSPORTATION

Federal Railroad Administration

[Docket Number FRA-2013-0075]

Petition for Waiver of Compliance

In accordance with Part 211 of Title 49 Code of Federal Regulations (CFR), this document provides the public notice that by a document received on July 8, 2013, the Medina Railroad Museum (MRRM) has petitioned the Federal Railroad Administration (FRA) for a waiver of compliance from certain provisions of the Federal railroad safety regulations contained at 49 CFR Part 223. FRA assigned the petition Docket Number FRA-2013-0075.

MRRM petitioned FRA to grant a waiver of compliance from the safety glazing provisions of 49 CFR 223.15, Requirements for existing passenger cars. MRRM seeks relief for a 1954 café lounge car, Number RPCX 761, which was purchased from a private owner, Dr. Harry Phills. MRRM intends to use RPCX 761 in excursion service on tracks owned by Genesee Valley Transportation's Falls Road Railroad (FRR). RPCX 761 will be operated at a maximum timetable track speed authorized by MRRM, but not to exceed 30 mph. RPCX 761 has 15 side windows and 4 end windows located in the entry doors (2 panes per door). Each window is two-pane glass with the inner pane made of automotive-style, laminated Canadian safety glass. None of the windows open; however, the two emergency exit windows on each end of RPCX 761 are clearly marked and will have instructions for use of axes and hammers to break out glazing under emergency conditions.

There have been no accidents or incidents attributed to window glazing failures in this equipment, which has been under the present ownership since 2008. The owner does not have any evidence that there have been any accidents/incidents involving window glazing resulting in personal injury to any occupants of this equipment. There have been no incidents of vandalism while this car has been in the museum's ownership since 2008.

When not in operation, this equipment is stored at 530 West Avenue, Medina, NY, on FRR. This equipment will be moved up to 24 miles over FRR trackage between Mileposts 18 and 42. FRR is a private shortline railroad company consisting of 42 miles of track with just one interchange point at Lockport, NY, where it interchanges with CSX Transportation (CSX). This equipment will only operate with passengers on this private railroad and will not interchange with CSX or Amtrak.

FRR trackage is single track; there is only one overhead bridge, without sidewalks, from which vandals could throw stones or other objects at this equipment. The end windows of RPCX 761 are enclosed in vestibules.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request. All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by October 21, 2013 will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC.
Robert C. Lauby.
Deputy Associate Administrator for Regulatory and Legislative Operations.

[FR Doc. 2013-21694 Filed 9-5-13; 8:45 am]

BILLING CODE 4910-06-P